DEPARTMENT OF HOMELAND SECURITY

U.S. Customs and Border Protection

[Docket No. USCBP-2023-0006]

Public Meeting: Green Trade Innovation and Incentives Forum

AGENCY: U.S. Customs and Border Protection (CBP), Department of Homeland Security (DHS).

ACTION: Notice of public meeting; request for presentation proposals and public comments.

SUMMARY: U.S. Customs and Border Protection (CBP) will host a public Green Trade Innovation and Incentives Forum and invites interested parties to participate. CBP is announcing this public meeting to solicit and share ideas related to green trade innovation and incentivization of clean and sustainable supply chains and trade decarbonization. To that end, CBP is collecting public comments in response to this notice to be shared and discussed during the forum, focusing on the following themes: green data as a strategic asset; green trade incentives; and green trade-related research and innovation. CBP is also soliciting proposals from industry volunteers to participate in a Trade Sustainability Leadership Showcase that will be held during the event. This notice provides information on CBP's goals for this public meeting, its commitment to environmental stewardship, and its Green Trade Strategy.

DATES:

Meeting: The Green Trade Innovation and Incentives Forum will be held on Tuesday, July 11, 2023, from 9 a.m. to 5 p.m. EDT.

Pre-registration: Members of the public wishing to attend the meeting, whether in-person or via videoconference, must pre-register as indicated in the ADDRESSES section by 5 p.m. EDT, Tuesday, June 20, 2023.

Cancellation of pre-registration: Members of the public who are pre-registered to attend and later need to cancel should do so by 5 p.m. EDT, Tuesday, June 27, 2023. Participants who wish to cancel their pre-registration should email GreenTradeForum2023@cbp.dhs.gov to notify CBP of their cancellation.

Showcase presentation proposals: Members of the public who wish to participate in the Trade Sustainability Leadership Showcase must submit a proposal as indicated in the ADDRESSES section by 5 p.m. EDT, Monday, May 22, 2023. CBP expects to notify those individuals selected to participate in the Showcase of their selection by Tuesday, June 13, 2023. Showcase participants are expected to attend in-person.

Submission of comments: Members of the public wishing to submit comments in response to the Green Trade Themes, as described in the SUPPLEMENTARY INFORMATION section, must do so by 5 p.m. EDT, Monday, May 22, 2023, by using one of the methods described in the ADDRESSES section. CBP expects to notify those individuals selected to offer comments during the meeting of their selection by Tuesday, June 20, 2023.

ADDRESSES:

Meeting: The Green Trade Innovation and Incentives Forum will be conducted in-person and via videoconference. The in-person meeting will be held at the U.S. Patent and Trademark Office, 600 Dulany Street, Alexandria, Virginia 22314. A link to participate via videoconference will be provided to those individuals who pre-register for the virtual attendance option. For information on services for individuals with disabilities or to request special assistance at the meeting, contact Ms. Lea-Ann Bigelow, Office of Trade, U.S. Customs and Border Protection, at GreenTradeForum2023@cbp.dhs.gov as soon as possible.

Pre-registration: Meeting participants may attend either in-person or via videoconference after pre-registering using one of the methods indicated below; on-site registration is not permitted.

For members of the public who plan to attend the meeting in-person, please pre-register online at https://sri-csl.regfox.com/greentradeforum-inperson.

For members of the public who plan to participate via videoconference, please pre-register online at https://sri-csl.regfox.com/greentradeforum-virtual.

Trade Sustainability Leadership Showcase Presentation Proposals: Industry members who wish to be considered for participation in the Trade Sustainability Leadership Showcase should send a presentation proposal no more than five hundred (500) words in length to GreenTradeForum2023@cbp.dhs.gov. The proposal should include your name and the name of your organization, a working title for your presentation, and your organization's role in the international trade industry. Please see the SUPPLEMENTARY INFORMATION section for more information about additional required contents of the proposal.

Submission of Comments: To facilitate public participation, we are inviting public comment on the three Green Trade Themes described below. In addition to submitting written comments to the docket, participants in the in-person and virtual components of the forum may also be selected for the opportunity to offer a public statement during the meeting. These oral comments are encouraged to stimulate discussion and knowledge sharing among the forum's participants. Please see the SUPPLEMENTARY INFORMATION section for more information on the comment themes and submission of written or oral comments. All comments—whether intended solely for the written docket or for oral presentation during the forum—must be submitted in writing according to the following instructions:

Instructions for Submission of Oral Comments: For those who wish to give a public statement in-person or virtually during the meeting, please send your comments to GreenTradeForum2023@cbp.dhs.gov, include the docket number USCBP-2023-0006 in the subject line of the message, indicate your interest in providing oral comment and provide the following information: first and last name; title/position; phone number; email address; name and type of organization; identify the theme to which you wish to speak (each individual will be limited to one public statement on one theme); and provide your comment. CBP will then post your comment on the docket without the personal information. If you wish to give a public statement in-person or virtually during the meeting, please do not send your comments through the Federal eRulemaking Portal, as the identification information is required for CBP to contact you, and all comments sent to the portal will be posted without change. Please do not submit personal information to the Federal eRulemaking portal.

Instructions for Submission of Written-Only Comments: All comments submitted to the docket must include the words “Department of Homeland Security” and the docket number for this action: USCBP-2023-0006. Comments may be submitted by one (1) of the following methods:

• Federal eRulemaking Portal: http://www.regulations.gov. Follow the instructions for submitting comments.

• Email: GreenTradeForum2023@cbp.dhs.gov. Include the docket number USCBP-2023-0006 in the subject line of the message. CBP will post comments received by email on the docket without change.

Docket: For access to the docket or to read background documents or comments, go to the Federal eRulemaking Portal— http://www.regulations.gov—and search for Docket Number USCBP-2023-0006. To submit a comment, click the “Comment” button located on the top-left hand side of the docket page.

FOR FURTHER INFORMATION CONTACT: Ms. Lea-Ann Bigelow, Office of Trade, U.S. Customs and Border Protection, at (202) 863-6000 or at GreenTradeForum2023@cbp.dhs.gov.

SUPPLEMENTARY INFORMATION:

CBP Green Trade Strategy Overview

In executing its trade mission, U.S. Customs and Border Protection (CBP) is charged with facilitating legitimate cross-border trade while enforcing U.S. trade laws and keeping the American public safe. This mission has long encompassed the protection of natural resources and prevention of environmental degradation. Climate change and other environmental challenges are critical considerations for CBP, as it carries out its mission of protecting the American people, safeguarding U.S. borders, and enhancing the nation's economic prosperity. While climate change and other environmental considerations pose significant challenges for CBP's trade mission and the trade participants CBP serves, they also provide new opportunities for innovation and improvement in trade processes, technology and standards, as well as opportunities for enhanced partnerships, collaboration, and knowledge sharing. The United States is pursuing a whole-of-government approach to addressing climate change as articulated in Executive Order 14008 (Jan. 27, 2021).

In recognition of these challenges and opportunities, and its commitment to building a more sustainable future for trade, CBP announced the launch of the CBP Green Trade Strategy at the World Customs Organization (WCO) in Brussels in June 2022. The Green Trade Strategy establishes CBP's vision to build resilience and address environmental and climate-related threats, while capitalizing on opportunities to grow the economy and accelerate innovation in a sustainable way. The Green Trade Strategy aligns with broader Department of Homeland Security (DHS) efforts (such as the DHS Climate Action Plan, which can be found at www.dhs.gov/dhs-actions-climate-change) and supports a whole-of-government approach to mitigating risk and seizing opportunities associated with climate change and environmental stewardship. The Green Trade Strategy aims to incentivize green trade, accelerate green innovation, strengthen CBP's environmental enforcement posture, and improve the agency's climate resilience and resource efficiency.

Details of the Strategy can be found at https://www.cbp.gov/trade/cbp-green-trade-strategy. Through the Green Trade Strategy, CBP will establish itself as a champion for the green economy and facilitate the global transition to a cleaner, more climate-resilient trading environment. CBP intends to exemplify higher, greener standards for global trade while creating an opportunity for government, industry, and the public to unify efforts in the creation of a more sustainable future.

As we progress further into the 21st century, there is widespread recognition of the challenges that climate change is creating and will continue to create for the international trade community. Recent studies have indicated that global supply chains contribute a significant amount to the world's total carbon emissions. Resource extraction and cultivation methods, production and storage requirements, the movement of persons and materials, and the transportation of goods represent various points in the supply chain that may generate emissions. Each stage in the supply chain also represents an opportunity for greener, more sustainable practices.

CBP is well positioned to make a positive difference on the path to a cleaner, environmentally-resilient future due to the agency's ability to influence global supply chain practices as well as its ability to enforce against natural resource crimes, but it cannot meet this challenge alone. Greening global supply chains and combatting the negative impacts of climate change and environmental degradation will necessitate innovative partnerships between public and private organizations with a stake in building a more sustainable future for trade.

Agenda

Green Trade Innovation and Incentives Forum

9 a.m.-12 p.m.—Opening Remarks, Keynote Presentations and Trade Sustainability Leadership Showcase

1 p.m.-5 p.m.—Public Statements and Open Public Comment on Green Trade Themes

Trade Sustainability Leadership Showcase

To highlight the various ways that industry organizations within the international trade community are currently leading in their efforts to reduce greenhouse gas emissions, conserve natural resources, and increase overall environmental sustainability within their operations, CBP will be hosting a Trade Sustainability Leadership Showcase during the Green Trade Innovation and Incentives Forum. The Showcase will present an opportunity and platform for selected members of the international trade community to share their successes, best practices, challenges and lessons learned in greening their own operational processes and footprints, as well as discuss the ways they are working with supply chain and other business partners to reduce emissions, protect natural resources, and generate innovative solutions. While the Showcase cannot represent all experiences and perspectives, it is CBP's hope that the sustainability journeys of those organizations featured will inspire further creative thinking, knowledge sharing, and problem solving across the international trade community.

Members of the public who wish to participate in the Trade Sustainability Leadership Showcase should submit a proposal, following the instructions under the ADDRESSES section. The proposal should be no more than five hundred (500) words in length, include your name and the name of your organization, a working title for your presentation, and your organization's role in the international trade industry. The proposal should also provide a summary of how your organization is actively greening its footprint and increasing sustainability of its own supply chain and trade processes, including best practices and lessons learned. CBP will evaluate and select participants and their submissions based upon considerations such as industry experience, sustainability goals and practices, and ability to effectively share their knowledge alongside other panelists, as well as CBP's desire to feature a balanced range of industry perspectives. CBP will notify all individuals selected to participate of their selection by Tuesday, June 13, 2023.

Public Statements and Open Public Comment on Green Trade Themes

Furthermore, CBP invites members of the public to participate through oral and written comments on the themes below. The public may submit written comments to the docket, following the instructions in the ADDRESSES section. Members of the public who wish to provide a public statement should likewise follow the instructions under the ADDRESSES section. Due to time and content considerations, it is possible that not all persons who express an interest in making a public statement will be able to do so. Speakers will be selected based on time considerations and to ensure that diverse, individual perspectives are highlighted. CBP will select and contact individuals to deliver public statements starting no later than Tuesday, June 20, 2023. Members of the public may submit as many comments as they wish; however, any commenter who is selected to provide an oral public statement during the event will be limited to one statement on one theme, during one timeslot.

CBP has identified three key topics for international trade industry and public input: (1) Green Data as a Strategic Asset; (2) Green Trade Incentives; and (3) Green Trade Research and Innovation. Brief descriptions of each theme are provided in this document along with the request for public comments on questions posed by CBP related to each theme.

(1) Green Data as a Strategic Asset

CBP and industry efforts to reach climate resilience and sustainability goals are anchored on improving decision-making through risk management and greater supply chain visibility. These efforts include not only exploring how to better utilize big data and predictive analytics to drive decision-making, but also the identification of operations-related data and other enterprise, supply chain, and logistics data that can be applied to optimize business efficiency and—by extension—sustainability.

Public Comment Questions:

• What data have you found useful in greening your trade operations? To what data do you wish you had better access?

• What additional data could CBP potentially provide (in accordance with existing laws) that would most benefit your sustainable decision-making?

• What data or datasets would you like members of the international trade community to be aware of as they continue on their environmental sustainability journeys?

(2) Green Trade Incentives

CBP seeks to develop facilitation benefits and other incentives to promote environmentally-friendly trade practices and supply chains.

Public Comment Questions:

• What are some tangible benefits CBP could provide to trade entities to incentivize their transition to more sustainable trade practices?

• What are the key underlying principles that CBP should follow as we seek to harmonize global green standards?

• What are the major hurdles your organization faces now in pursuing greener practices?

(3) Green Trade Research and Innovation

CBP aims to promote the development and deployment of innovative, sustainable green trade practices and technology by public and private stakeholders to encourage environmentally conscious operations that are informed by cutting-edge research and are able to accommodate on-going changes in global trade.

Public Comment Questions:

• What current opportunities do you see for research and innovation in green trade? How is your organization currently advancing research into green trade topics and/or pursuing innovative technology solutions with the potential to increase the sustainability of global trade flows?

• What specific environmental stewardship and sustainability gaps or issues do you see in the international trade community that could be addressed through investment in emerging technologies, and what are those technologies?

• What challenges do you face in bringing green trade innovation and technology solutions to market or incorporating them on an industry-wide scale?

Dated: April 17, 2023.
AnnMarie R. Highsmith,
Executive Assistant Commissioner, Office of Trade.

[FR Doc. 2023-08394 Filed 4-20-23; 8:45 am]

BILLING CODE 9111-14-P